ENVIRONMENTAL PROTECTION AGENCY

[FRL OP-OFA-030]

Environmental Impact Statements; Notice of Availability

Responsible Agency: Office of Federal Activities, General Information 202-564-5632 or https://www.epa.gov/nepa.

Weekly receipt of Environmental Impact Statements (EIS)

Filed August 8, 2022 10 a.m. EST Through August 15, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220117, Draft, USN, VA, Disposal of Decommissioned, Defueled Ex-Enterprise (CVN 65) and its Associated Naval Reactor Plants, Comment Period Ends: 10/03/2022, Contact: Amanda Stuhldreher 202-781-6368.

EIS No. 20220118, Final Supplement, USACE, SC, Haile Gold Mine, Review Period Ends: 09/19/2022, Contact: Shawn Boone 843-329-8158.

EIS No. 20220119, Draft, USFWS, CA, Tijuana Estuary Tidal Restoration Program II Phase I, Comment Period Ends: 10/03/2022, Contact: Brian Collins 760-431-9440 x273.

Dated: August 15, 2022.
Robert Tomiak,
Director, Office of Federal Activities.

[FR Doc. 2022-17884 Filed 8-18-22; 8:45 am]

BILLING CODE 6560-50-P